DEPARTMENT OF COMMERCE

Foreign-Trade Zones Board

[Order No. 1352]

Approval of Manufacturing Authority, Foreign-Trade Zone 134, Sofix Corporation (Colorformer Chemicals), Chattanooga, TN

Pursuant to its authority under the Foreign-Trade Zones Act of June 18, 1934, as amended (19 U.S.C. 81a-81u), the Foreign-Trade Zones Board (the Board) adopts the following Order:

Whereas, the Chattanooga Chamber Foundation, grantee of FTZ 134, on behalf of Sofix Corporation, requesting authority to manufacture black colorformer chemicals under FTZ procedures within FTZ 134—Site 2 (FTZ Docket 58-2003, filed 11/04/03);

Whereas, notice inviting public comment has been given in the Federal Register (68 FR 64853, 11/17/03);

Whereas, the Board adopts the findings and recommendations of the examiner's report, and finds that the requirements of the FTZ Act and the Board's regulations are satisfied, and that approval of the request, is in the public interest;

Now, therefore, the Board hereby orders:

The application, on behalf of Sofix Corporation, requesting authority to manufacture black colorformer chemicals under FTZ procedures within FTZ 134—Site 2 is approved, subject to the FTZ Act and the Board's regulations, including § 400.28.

Signed at Washington, DC, this 13th day of September 2004.
James J. Jochum,
Assistant Secretary of Commerce for Import Administration, Alternate Chairman, Foreign-Trade Zones Board.
Attest:
Dennis Puccinelli,
Executive Secretary.

[FR Doc. 04-21284 Filed 9-21-04; 8:45 am]

BILLING CODE 3510-DS-P